DEPARTMENT OF COMMERCE

National Oceanic and Atmospheric Administration

RIN 0648-XC731

Caribbean Fishery Management Council; Scoping Meetings

AGENCY: National Marine Fisheries Service (NMFS), National Oceanic and Atmospheric Administration (NOAA), Commerce.

ACTION: Notice of scoping meetings.

SUMMARY: The Caribbean Fishery Management Council will hold scoping meetings to obtain input from fishers, the general public, and the local agencies representatives on the development of island-specific fishery management plans for Puerto Rico, St. Thomas/St. John, USVI and St. Croix, USVI. A fishery management plan will be developed for each of these areas.

The document entitled “Development of a Comprehensive Fishery Management Plan for the Exclusive Economic Zone of St. Thomas/St. John, USVI,” will consider the following alternative actions:

Action 1: Establish the fishery management units (FMUs) for the comprehensive St. Thomas/St/John fishery management plan (FMP).

Action 2: Revise the species composition of the comprehensive St. Thomas/St. John FMP.

Action 3: Establish management reference points for any new species added to the comprehensive St. Thomas/St. John FMP.

Action 4: Modify or establish additional management measures.

The document entitled “Development of a Comprehensive Fishery Management Plan for the Exclusive Economic Zone of St. Croix, USVI,” will consider the following alternative actions:

Action 1: Establish the fishery management units (FMUs) for the comprehensive St. Croix, USVI fishery management plan (FMP).

Action 2: Revise the species composition of the comprehensive St. Croix FMP.

Action 3: Establish management reference points for any new species added to the comprehensive St. Croix, USVI FMP.

Action 4: Modify or establish additional management measures.

The document entitled “Development of a Comprehensive Fishery Management Plan for the Exclusive Economic Zone of Puerto Rico,” will consider the following alternative actions:

Action 1: Establish the fishery management units (FMUs) for the comprehensive Puerto Rico fishery management plan (FMP).

Action 2: Revise the species composition of the comprehensive Puerto Rico FMP.

Action 3: Establish management reference points for any new species added to the comprehensive Puerto Rico FMP.

Action 4: Modify or establish additional management measures.

The comprehensive plans will incorporate and modify, as needed, federal fishery management measures included in each of the existing species based management plans (Spiny Lobster, Reef Fish, Coral and Queen Conch). The goal is to create management plans tailored to the specific fishery management needs of each area. If approved, these new management plans being developed for each area; St. Thomas/St. John, USVI; St. Croix, USVI, and Puerto Rico, will replace the current species-based plans presently governing commercial and recreational harvest in the U.S. Caribbean federal waters.

Dates and Addresses: Due to the tropical storm Chantel the scoping meetings in these locations could not be held. The rescheduled scoping meetings will be held on the following dates and locations:

In Puerto Rico:

August 5, 2013—7 p.m.-10 p.m.—Mayaguez Resort & Casino, Route 104, Km 0.3, Mayagüez 00680, Puerto Rico.

August 6, 2013—7 p.m.-10 p.m.—at the Holiday Inn Ponce & Tropical Casino, 3315 Ponce By Pass, Ponce, Puerto Rico.

In the U.S. Virgin Islands:

August 6, 2013—7 p.m.—10 p.m.—Windward Passage Hotel, Charlotte Amalie, St. Thomas, U.S. Virgin Islands.

FOR FURTHER INFORMATION CONTACT: Caribbean Fishery Management Council, 270 Muñoz Rivera Avenue, Suite 401, San Juan, Puerto Rico 00918-1903, telephone: (787) 766-5926.

SUPPLEMENTARY INFORMATION: The Caribbean Fishery Management Council will hold scoping meetings to receive public input on the management options mentioned above. The complete document is available at: www.caribbeanfmc.com or you may contact Ms. Livia Montalvo at livia_montalvo_cfmc@yahoo.com, or the Council office at (787) 766-5926 to obtain copies.

Written comments can be sent to the Council not later than July 31, 2013, by regular mail to the address below, or via email to graciela_cfmc@yahoo.com.

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico, 00918-1903, telephone: (787) 766-5926, at least 5 days prior to the meeting date.

Dated: June 17, 2013.
Tracey L. Thompson,
Acting Deputy Director, Office of Sustainable Fisheries, National Marine Fisheries Service.

[FR Doc. 2013-17511 Filed 7-19-13; 8:45 am]

BILLING CODE 3510-22-P